FEDERAL MARITIME COMMISSION

Ocean Transportation Intermediary License; Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Neutral Line (U.S.A.) Inc., 8600 N.W. 53rd Terr., Suite 123, Miami, FL 33166, Officers: Jorge L. Loy, Secretary (Qualifying Individual), Carlos Amaro, President

Pudong Trans USA, Inc., 9660 Flair Drive, Suite 225, El Monte, CA 91731, Officers: Yuan Sun, Vice President (Qualifying Individual), Jiang Wang, President

Ocean Carriers Inc., 8425 N.W. 29th Street, Miami, FL 33122, Officer: Gustavo Merck, President/Secretary (Qualifying Individual)

C.F.L. International, 5682 Mt. Day Drive, Livermore, CA 94550, Guillermo Iglesias, Sole Propreitor

Fastmark Corporation, 8410 N.W. 70 Street, Miami, FL 33166, Officers: Marianela Guillen, Vice Secretary (Qualifying Individual), Juan Carlos Mezza, President

RCM International Shipping U.S.A., L.L.C., 10-C W. Access Road, Kenner, LA 70062, Officer: Rafael A. Rodriguez, President (Qualifying Individual)

Unicom Trans, Inc., 15500 S. Western Avenue, Gardena, CA 90249, Officers: Sun H. Kim, Chief Executive Officer (Qualifying Individual), Daniel S. Jun, Chief Financial Officer

Deltamax Logistic Freight Service, LLC d/b/a DLS Logistic Service, 5261-B W. Imperial Hwy., Los Angeles, CA 90045, Officers: Andy Kung, President (Qualifying Individual), Chi Fu Meng, General Manager

Beacon Logistics, Inc., 460 E. Carson Plaza Dr., Suite #218, Carson, CA 90746, Officers: Sophia Song, CEO (Qualifying Individual), Daniel H. Cho, Secretary

Drake Logistics, L.L.C., 124 Finhurst Drive, Atlanta, GA 30339, Officers: Danny Lee Roberts, President (Qualifying Individual), Augustine E. Clarke, III, Vice President

Non-Vessel-Operating Common Carrier and Ocean Freight Forwarder Transportation Intermediary Applicants

Just In Time Services, Inc., 8600 N.W. 53 Terr., Suite 123, Miami, FL 33166, Officers: Diane Provenzano, Vice President (Qualifying Individual), Jesus Martin, Director

Mega-Trans, Inc., 1080 Randolph Avenue, Suite 5, Rahway, NJ 07065, Officers: John Powers, General Manager (Qualifying Individual), Joseph Venetucci, President

Efren Jimenez, 735 Indiana Avenue, Trenton, NJ 08638, Sole Proprietor

Hoosier Forwarding, LLC, 22500 Lincolnway West, South Bend, IN 46634-4483, Officer: Peter F. Baranay, Manager (Qualifying Individual)

Ocean Freight Forwarder—Ocean Transportation Intermediary Applicants

Surburan Moving & Storage Inc., 1720 Willow Avenue, Weehawken, NJ 07087, Officer: Ornit Levinson, President (Qualifying Individual)

A.S.L. Logistics Corp., 11613 N.W. 51 Lane, Miami, FL 33178, Officers: Jackeline Alers, President (Qualifying Individual), Raul Duany, Vice President

Dated: March 9, 2001.
Bryant L. VanBrakle,
Secretary.

[FR Doc. 01-6344 Filed 3-14-01; 8:45 am]

BILLING CODE 6730-01-P